DEPARTMENT OF DEFENSE

GENERAL SERVICES ADMINISTRATION

NATIONAL AERONAUTICS AND SPACE ADMINISTRATION

48 CFR Parts 22, 25, and 52

[FAC 2024-01, FAR Case 2023-019, Item I; Docket No. 2023-0019; Sequence No. 1]

RIN 9000-AO67

Federal Acquisition Regulation: New Designated Country—North Macedonia

AGENCY: Department of Defense (DoD), General Services Administration (GSA), and National Aeronautics and Space Administration (NASA).

ACTION: Final rule.

SUMMARY: DoD, GSA, and NASA are issuing a final rule amending the Federal Acquisition Regulation (FAR) to add North Macedonia as a new designated country under the World Trade Organization Government Procurement Agreement.

DATES: Effective November 14, 2023.

FOR FURTHER INFORMATION CONTACT: For clarification of content, contact Ms. Mahruba Uddowla, Procurement Analyst, at 703-605-2868 or by email at mahruba.uddowla@gsa.gov. For information pertaining to status or publication schedules, contact the Regulatory Secretariat Division at 202-501-4755 or GSARegSec@gsa.gov. Please cite FAC 2024-01, FAR Case 2023-019.

SUPPLEMENTARY INFORMATION:

I. Background

DoD, GSA, and NASA are amending the FAR to add North Macedonia as a new designated country under the World Trade Organization Government Procurement Agreement (WTO GPA). North Macedonia became a party to the WTO GPA on October 30, 2023. The Trade Agreements Act (19 U.S.C. 2501 et seq.) provides the authority for the President to waive the Buy American statute and other discriminatory provisions for eligible products from countries that have signed an international trade agreement (such as the WTO GPA) with the United States. The President has delegated this authority to the U.S. Trade Representative.

The U.S. Trade Representative has determined that North Macedonia will provide appropriate reciprocal competitive Government procurement opportunities to United States products and services. The U.S. Trade Representative published a notice in the Federal Register waiving the Buy American statute and other discriminatory provisions for eligible products from North Macedonia at 88 FR 68905 on October 4, 2023.

II. Publication of This Final Rule for Public Comment Is Not Required by Statute

The statute that applies to the publication of the FAR is 41 U.S.C. 1707. Subsection (a)(1) of 41 U.S.C. 1707 requires that a procurement policy, regulation, procedure, or form (including an amendment or modification thereof) be published for public comment if it relates to the expenditure of appropriated funds, and has either a significant effect beyond the internal operating procedures of the agency issuing the policy, regulation, procedure, or form, or has a significant cost or administrative impact on contractors or offerors. This final rule is not required to be published for public comment, because it has no significant cost or administrative impact on contractors or offerors. This final rule only updates the lists of designated countries, in order to conform to the determination by the U.S. Trade Representative.

III. Applicability to Contracts at or Below the Simplified Acquisition Threshold (SAT) and for Commercial Products (Including Commercially Available Off-the-Shelf (COTS) Items), or for Commercial Services

This final rule does not create any new provisions or clauses, nor does it change the applicability of any existing provisions or clauses included in solicitations and contracts valued at or below the SAT, or for commercial products (including COTS items) and commercial services.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993.

V. Congressional Review Act

The Congressional Review Act (5 U.S.C. 801-808) requires interim and final rules to be submitted to Congress before the rule takes effect. DoD, GSA, and NASA will send this rule to each House of the Congress and to the Comptroller General of the United States. The Office of Information and Regulatory Affairs (OIRA) in the Office of Management and Budget (OMB) has determined that this is not a major rule under 5 U.S.C. 804.

VI. Regulatory Flexibility Act

Because a notice of proposed rulemaking and an opportunity for public comment are not required to be given for this rule under 41 U.S.C. 1707(a)(1) (see section II. of this preamble), the analytical requirements of the Regulatory Flexibility Act (5 U.S.C. 601-612) are not applicable. Accordingly, no regulatory flexibility analysis is required, and none has been prepared.

VII. Paperwork Reduction Act

This rule affects the information collection requirements in the provisions at FAR 52.212-3, Offeror Representations and Certifications—Commercial Products and Commercial Services, and 52.225-6, Trade Agreements Certificate (which goes along with the revised clause at FAR 52.225-5, Trade Agreements), and in the clauses at FAR 52.225-11, Buy American—Construction Materials Under Trade Agreements, and 52.225-23, Required Use of American Iron, Steel, and Manufactured Goods—Buy American Statute—Construction Materials Under Trade Agreements, all currently approved under OMB Control Number 9000-0024, Buy American, Trade Agreements, and Duty-Free Entry, in accordance with the Paperwork Reduction Act (44 U.S.C. 3501-3521). The impact, however, is negligible because the rule affects the response of an offeror that is offering a product of North Macedonia to the information collection requirements in the provisions at FAR 52.212-3(g)(5), 52.225-6, 52.225-11, and 52.225-23. The offeror no longer needs to list a product from North Macedonia under “other end products” or “foreign (nondesignated country)” construction material because North Macedonia is now a designated country.

List of Subjects in 48 CFR Parts 22, 25, and 52

Government procurement.

William F. Clark,
Director, Office of Government-wide Acquisition Policy, Office of Acquisition Policy, Office of Government-wide Policy.

Therefore, DoD, GSA, and NASA amend 48 CFR parts 22, 25, and 52 as set forth below:

1. The authority citation for 48 CFR parts 22, 25, and 52 continues to read as follows:

Authority: 40 U.S.C. 121(c); 10 U.S.C. chapter 4 and 10 U.S.C. chapter 137 legacy provisions (see 10 U.S.C. 3016); and 51 U.S.C. 20113.

PART 22—APPLICATION OF LABOR LAWS TO GOVERNMENT ACQUISITIONS

22.1503 [Amended]

2. Amend section 22.1503 by removing from paragraph (b)(3) “New Zealand, Norway,” and adding “New Zealand, North Macedonia, Norway,” in its place.

PART 25—FOREIGN ACQUISITION

25.003 [Amended]

3. Amend section 25.003 by—

a. Removing from the definition “Designated country” in paragraph (1) “New Zealand, Norway,” and adding “New Zealand, North Macedonia, Norway,” in its place; and

b. Removing from the definition “World Trade Organization Government Procurement Agreement (WTO GPA) country” “New Zealand, Norway,” and adding “New Zealand, North Macedonia, Norway,” in its place.

PART 52—SOLICITATION PROVISIONS AND CONTRACT CLAUSES

4. Amend section 52.212-5 by—

a. Revising the date of the clause;

b. Removing from paragraph (b)(30) “(DEC 2022)” and adding “([NOV 2023])” in its place; and

c. Removing from paragraph (b)(52) “(DEC 2022)” and adding “([NOV 2023])” in its place.

The revision reads as follows:

52.212-5 Contract Terms and Conditions Required To Implement Statutes or Executive Orders—Commercial Products and Commercial Services.

* * * * *

Contract Terms and Conditions Required To Implement Statutes or Executive Orders—Commercial Products and Commercial Services ([NOV 2023])

* * * * *

5. Amend section 52.213-4 by—

a. Revising the date of the clause; and

b. Removing from paragraph (b)(1)(iii) “(DEC 2022)” and adding “([NOV 2023])” in its place.

The revision reads as follows:

52.213-4 Terms and Conditions—Simplified Acquisitions (Other Than Commercial Products and Commercial Services).

* * * * *

Terms and Conditions—Simplified Acquisitions (Other Than Commercial Products and Commercial Services) ([NOV 2023])

* * * * *

6. Amend section 52.222-19 by—

a. Revising the date of the clause; and

b. Removing from paragraph (a)(3) “New Zealand, Norway,” and adding “New Zealand, North Macedonia, Norway,” in its place.

The revision reads as follows:

52.222-19 Child Labor—Cooperation with Authorities and Remedies.

* * * * *

Child Labor—Cooperation With Authorities and Remedies ([NOV 2023])

* * * * *

7. Amend section 52.225-5 by—

a. Revising the date of the clause; and

b. In paragraph (a), in the definition “Designated country”, removing from paragraph (1) “New Zealand, Norway,” and adding “New Zealand, North Macedonia, Norway,” in its place.

The revision reads as follows:

52.225-5 Trade Agreements.

* * * * *

Trade Agreements ([NOV 2023])

* * * * *

8. Amend section 52.225-11 by—

a. Revising the date of the clause; and

b. In paragraph (a), in the definition “Designated country”, removing from paragraph (1) “New Zealand, Norway,” and adding “New Zealand, North Macedonia, Norway,” in its place.

The revision reads as follows:

52.225-11 Buy American—Construction Materials Under Trade Agreements.

* * * * *

Buy American—Construction Materials Under Trade Agreements ([NOV 2023])

* * * * *

9. Amend section 52.225-23 by—

a. Revising the date of the clause; and

b. In paragraph (a), in the definition “Designated country”, removing from paragraph (1) “New Zealand, Norway,” and adding “New Zealand, North Macedonia, Norway,” in its place.

The revision reads as follows:

52.225-23 Required Use of American Iron, Steel, and Manufactured Goods—Buy American Statute—Construction Materials Under Trade Agreements.

* * * * *

Required Use of American Iron, Steel, and Manufactured Goods—Buy American Statute—Construction Materials Under Trade Agreements ([NOV 2023])

* * * * *

[FR Doc. 2023-24932 Filed 11-13-23; 8:45 am]

BILLING CODE P